FEDERAL ELECTION COMMISSION

Sunshine Act Meeting

FEDERAL REGISTER CITATION NOTICE OF PREVIOUS ANNOUNCEMENT: 86 FR 1970.

PREVIOUSLY ANNOUNCED TIME AND DATE OF THE MEETING: Thursday, January 14, 2021 at 10:00 a.m. Virtual Meeting.

CHANGES IN THE MEETING: The matter number for the following item has been corrected: Audit Division Recommendation Memorandum on the Mississippi Republican Party (A17-15).

CONTACT PERSON FOR MORE INFORMATION: Judith Ingram, Press Officer, Telephone: (202) 694-1220.

Authority: Government in the Sunshine Act, 5 U.S.C. 552b.

Dated: January 11, 2021.
Laura E. Sinram,
Acting Secretary and Clerk of the Commission.

[FR Doc. 2021-00695 Filed 1-11-21; 4:15 pm]

BILLING CODE 6715-01-P